ENVIRONMENTAL PROTECTION AGENCY

40 CFR Part 52

[EPA-R05-OAR-2017-0060; FRL-9982-11—Region 5]

Air Plan Approval; Minnesota; Infrastructure SIP Requirements for the 2012 PM2.5 NAAQS; Multistate Transport

AGENCY: Environmental Protection Agency (EPA).

ACTION: Proposed rule.

SUMMARY: The Environmental Protection Agency (EPA) is proposing to approve elements of the State Implementation Plan (SIP) submission from Minnesota regarding the infrastructure requirements of section 110 of the Clean Air Act (CAA) for the 2012 annual fine particulate matter (PM2.5) National Ambient Air Quality Standard (NAAQS or standard). The infrastructure requirements are designed to ensure that the structural components of each state's air quality management program are adequate to meet the state's responsibilities under the CAA. This action pertains specifically to infrastructure requirements concerning interstate transport provisions.

DATES: Comments must be received on or before September 12, 2018.

ADDRESSES: Submit your comments, identified by Docket ID No. EPA-R05-OAR-2017-0060 at https://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit https://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is the background of this SIP submission?

II. What guidance and memoranda is EPA using to evaluate this SIP submission?

III. EPA's Review

IV. What action is EPA taking?

V. Statutory and Executive Order Reviews

I. What is the background of this SIP submission?

This rulemaking addresses a submission from the Minnesota Pollution Control Agency dated January 23, 2017, which describes its infrastructure SIP for the 2012 annual PM2.5 NAAQS. Specifically, this rulemaking addresses the portion of the submission dealing with interstate pollution transport under CAA Section 110(a)(2)(D)(i), otherwise known as the “good neighbor” provision. The requirement for states to make a SIP submission of this type arises from Section 110(a)(1) of the CAA. Pursuant to Section 110(a)(1), states must submit “within 3 years (or such shorter period as the Administrator may prescribe) after the promulgation of a national primary ambient air quality standard (or any revision thereof),” a plan that provides for the “implementation, maintenance, and enforcement” of such NAAQS. The statute directly imposes on states the duty to make these SIP submissions, and the requirement to make the submissions is not conditioned upon EPA's taking any action other than promulgating a new or revised NAAQS. Section 110(a)(2) includes a list of specific elements that “[e]ach such plan” submission must address. EPA commonly refers to such state plans as “infrastructure SIPs.”

II. What guidance and memoranda is EPA using to evaluate this SIP submission?

EPA highlighted the statutory requirement to submit infrastructure SIPs within three years of promulgation of a new NAAQS in an October 2, 2007 guidance document titled “Guidance on SIP Elements Required Under Sections 110(a)(1) and (2) for the 1997 8-hour Ozone and PM2.5 National Ambient Air Quality Standards” (2007 guidance). EPA has issued additional guidance documents and memoranda, including a September 13, 2013 guidance document titled “Guidance on Infrastructure State Implementation Plan (SIP) Elements under Clean Air Act Sections 110(a)(1) and 110(a)(2)” (2013 guidance).

The most recent relevant document is a memorandum published on March 17, 2016, titled “Information on the Interstate Transport “Good Neighbor” Provision for the 2012 Fine Particulate Matter National Ambient Air Quality Standards under Clean Air Act Section 110(a)(2)(D)(i)(I)” (2016 memorandum). The 2016 memorandum describes EPA's consistent approach over the years to address interstate transport, and provides EPA's general review of relevant modeling data and air quality projections as they relate to the 2012 annual PM2.5 NAAQS. The 2016 memorandum provides information relevant to EPA Regional office review of the CAA section 110 (a)(2)(D)(i)(I) “good neighbor” provision in infrastructure SIPs with respect to the 2012 annual PM2.5 NAAQS. Minnesota's submittal and this rulemaking consider information provided in that memorandum.

The 2016 memorandum provides states and EPA Regional offices with future year annual PM2.5 design values for monitors in the United States based on quality-assured and certified ambient monitoring data and air quality modeling. The 2016 memorandum further describes how these projected potential design values can be used to help determine which monitors should be further evaluated to potentially address whether emissions from other states will significantly contribute to nonattainment or interfere with maintenance of the 2012 annual PM2.5 NAAQS at those sites. The 2016 memorandum explains that, for purposes of addressing interstate transport for the 2012 annual PM2.5 NAAQS, it may be appropriate to evaluate projected air quality in 2021, which is the attainment deadline for 2012 annual PM2.5 NAAQS nonattainment areas classified as Moderate. Accordingly, because the available data includes 2017 and 2025 projected average and maximum PM2.5 design values calculated through the CAMx photochemical model, the 2016 memorandum suggests approaches that states might use to interpolate PM2.5 values at sites in 2021. The 2016 memorandum indicates that it may be reasonable to assume receptors projected to have average and/or maximum design values above the NAAQS in both 2017 and 2025 are also likely to be either nonattainment or maintenance receptors in 2021. Similarly, the 2016 memorandum indicates that it may be reasonable to assume that receptors that are projected to attain the NAAQS in both 2017 and 2025 are also likely to be attainment receptors in 2021. However, where a potential receptor is projected to be nonattainment or maintenance in 2017, but projected to be attainment in 2025, the 2016 memorandum suggests that further analysis of the emissions and modeling may be needed to make a further judgement regarding the receptor status in 2021.

The 2016 memorandum indicates that for all but one monitor site in the eastern United States with at least one complete and valid PM2.5 design value for the annual average 2012 annual PM2.5 NAAQS in the 2009-2013 period, the modeling data shows that monitors are expected to both attain and maintain the 2012 annual PM2.5 NAAQS in both 2017 and 2025. The modeling results provided in the 2016 memorandum show that out of seven PM2.5 monitors located in Allegheny County, Pennsylvania, one monitor is expected to be above the 2012 annual PM2.5 NAAQS in 2017. Further, that monitor, the Liberty monitor (ID number 420030064), is projected to be above the NAAQS only under the model's maximum projected conditions (used in EPA's interstate transport framework to identify maintenance receptors), and is projected to both attain and maintain the NAAQS (along with all Allegheny County monitors) in 2025. The 2016 memorandum therefore indicates that under such a condition (where EPA's photochemical modeling indicates an area will maintain the 2012 annual PM2.5 NAAQS in 2025 but not attain in 2017) further analysis of the site should be performed to determine if the site may be a nonattainment or maintenance receptor in 2021 (the attainment deadline for moderate PM2.5 areas).

The 2016 memorandum indicates that based on modeling projections, there are 17 potential nonattainment or maintenance receptors in California, located in the San Joaquin Valley and South Coast nonattainment areas, and one potential receptor in Shoshone County, Idaho.

The 2016 memorandum indicates that for certain states with incomplete ambient monitoring data, additional information including the latest available data, should be analyzed to determine whether there are potential downwind air quality problems that may be impacted by transported emissions. These states include all or portions of Florida, Illinois, Idaho (outside of Shoshone County), Tennessee and Kentucky. With the exception of four counties in Florida, the data quality problems have subsequently been resolved for these areas, and these areas now have current design values below the 2012 annual PM2.5 NAAQS and are expected to maintain the NAAQS due to downward emission trends for NOX and SO2.

Minnesota's submittal indicates that the state used data from the 2016 memorandum in its analysis. EPA considered the analysis from Minnesota, as well as additional analysis conducted by EPA, in its review of the Minnesota submittal. More information contained in our review can be found in the technical support document (TSD) in the docket, “[Technical Support Document for Docket #EPA-R05-OAR-2017-0060].”

III. EPA's Review

This rulemaking proposes action on the portion of Minnesota's January 23, 2017 SIP submission addressing the good neighbor provision requirements of CAA Section 110(a)(2)(D)(i). State plans must address four requirements of the good neighbor provisions (commonly referred to as “prongs”), including:

—Prohibiting any source or other type of emissions activity in one state from contributing significantly to nonattainment of the NAAQS in another state (prong one);

—Prohibiting any source or other type of emissions activity in one state from interfering with maintenance of the NAAQS in another state (prong two);

—Prohibiting any source or other type of emissions activity in one state from interfering with measures required to prevent significant deterioration (PSD) of air quality in another state (prong three); and

—Protecting visibility in another state (prong four).

This rulemaking is evaluating Minnesota's January 23, 2017 submission, to determine whether Minnesota's interstate transport provisions in its PM2.5 infrastructure SIP meet prongs one and two of the good neighbor requirements of the CAA. Prongs three and four will be evaluated in a separate rulemaking.

EPA has developed a consistent framework for addressing the interstate transport requirements required by prongs one and two with respect to the PM2.5 NAAQS in several previous Federal rulemakings. The four basic steps of that framework include:

(1) Identifying downwind receptors that are expected to have problems attaining or maintaining the NAAQS; (2) identifying which upwind states contribute to these identified problems in amounts sufficient to warrant further review and analysis; (3) for states identified as contributing to downwind air quality problems, identifying upwind emissions reductions necessary to prevent an upwind state from significantly contributing to nonattainment or interfering with maintenance of the NAAQS downwind; and (4) for states that are found to have emissions that significantly contribute to nonattainment or interfere with maintenance of the NAAQS downwind, reducing the identified upwind emissions through adoption of permanent and enforceable measures. This framework was most recently applied with respect to PM2.5 in the August 8, 2011 Cross-State Air Pollution Rule (CSAPR) (76 FR 48208), designed to address both the 1997 and 2006 PM2.5 standards, as well as the 1997 and 2008 ozone standards.

Minnesota's January 23, 2017 submission indicates that the Minnesota SIP contains the following major programs related to the interstate transport of pollution:

• 7011.0500-0553 Indirect Heating Fossil Fuel Burning Equipment

• 7011.0600-0625 Direct Heating Fossil Fuel Burning Equipment

• 7011.1400-1430 Petroleum Refineries

• 7011.1600-1605 Sulfuric Acid Plants

• 7011.0150 Preventing Particulate Matter from Becoming Airborne

• 7011.0710-0735 Industrial Process Equipment

• 7011.0850-0859 Concrete Manufacturing Plant Standards of Performance

• 7011.0900-0922 Hot Mix Asphalt Plants

• 7011.1000-1015 Bulk Agricultural Commodity Facilities

• 7011.1100-1125 Coal Handling Facilities

• 7011.1300-1325 Incinerators

• 7011.1700-1705 Nitric Acid Plants

• Title I/Title V operating permits and administrative orders for facilities in the state as defined in the January 23, 2017 submittal.

Minnesota's submittal also contains a technical analysis of its interstate transport of pollution relative to the 2012 annual PM2.5 NAAQS. The technical analysis studies Minnesota sources' contribution to monitored PM2.5 air quality values in other states and whether Minnesota would need to take further steps to decrease its emissions to (and therefore impacts on) those areas. Minnesota's technical analysis considers CSAPR rule implementation, EPA guidance and memoranda, and other factors such as meteorology and state-wide emissions inventories. Minnesota did not focus on its potential contribution to areas EPA identified as not attaining the 2012 annual PM2.5 NAAQS based on monitor data in Alaska, California, Idaho, Nevada, or Hawaii. The distance between Minnesota and these areas, coupled with the prevailing wind directions, leads EPA to propose to find that Minnesota will not contribute significantly to any of the potential receptors in those states.¹

¹ It should be noted that EPA has projected that receptors in California and Idaho will be in nonattainment in 2021 but, as just noted, Minnesota's distance from those receptors, as well as the fact that the wind generally blows from west to east over the continental U.S., means that Minnesota will not contribute to them.

Additionally, EPA's 2016 memorandum found Allegheny County, Pennsylvania, the Liberty monitor, to be a potential receptor, however, EPA proposes to find that Minnesota will not contribute significantly to the receptor. Minnesota's impacts on that potential receptor is relatively small. CSAPR contained a determination that for the 1997 and 2006 PM2.5 NAAQS, any state whose impacts on a specific receptor in a downwind state meet or exceed a threshold of 1% of the NAAQS are considered linked to that receptor (76 FR 48236). In other words, EPA determined that any state whose impacts are below that threshold will not significantly contribute to nonattainment or interfere with maintenance of the relevant NAAQS. EPA has not determined a comparable threshold for the 2012 annual PM2.5 NAAQS. EPA believes that a proper and well-supported weight of evidence approach can provide sufficient information for purposes of evaluating the impact of Minnesota on the Liberty monitor. In addition, in its review, Minnesota determined that its impact on air quality monitors in Pennsylvania is less than 1% of the 2012 annual PM2.5 NAAQS. Minnesota's determination is based on EPA's source apportionment modeling predicting state contributions to downwind monitors in 2012 under the base case scenario in our original CSAPR analysis. For these reasons, we propose to find that Minnesota's emissions will not contribute significantly to the Liberty monitor.

With respect to Illinois, EPA's source apportionment modeling in our original CSAPR analysis predicts that Minnesota's emissions impact Illinois's monitors. The PM2.5 monitoring data for Illinois for the period from January 2011 to July 2014 suffered from data quality/completion issues, and no current annual PM2.5 design values existed for Illinois at the time of the modeling for the 2016 memorandum. Illinois has since resolved these quality control issues.

EPA considered available data from monitors in Illinois for its analysis of Minnesota's submittal. As shown in Table 1, Illinois is now meeting the standard throughout the state.

Table 1—Illinois Annual PM2.5 Design Values for 2015-2017 Design Period
Local site name | Monitoring site | 2015-2017 design value (μg/m³)
Alsip | 17-031-0001 | 9.5
Washington High School | 17-031-0022 | 9.3
Mayfair Pump Station | 17-031-0052 | 9.1
Springfield Pump Station | 17-031-0057 | 10.2
Com Ed | 17-031-0076 | 9.5
Schiller Park | 17-031-3103 | 10.5
Summit | 17-031-3301 | 9.7
Des Plaines | 17-031-4007 | 9.4
Northbrook | 17-031-4201 | 8.4
Cicero | 17-031-6005 | 10.0
Naperville | 17-043-4002 | 8.3
Elgin | 17-089-0003 | 8.3
Aurora | 17-089-0007 | 8.3
Cary | 17-111-0001 | + 8.2
Joliet | 17-197-1002 | 7.9
Braidwood | 17-197-1011 | 7.9
Jerseyville | 17-083-0117 | + 8.8
Granite City | 17-119-1007 | 9.7
Alton | 17-119-2009 | 8.8
Wood River | 17-119-3007 | 8.7
Houston | 17-157-0001 | 8.5
East St. Louis | 17-163-0010 | 9.8
Champaign | 17-019-0006 | 7.9
Bondville | 17-019-1001 | 7.8
Knight Prairie | 17-065-0002 | 8.2
Normal | 17-113-2003 | 8.0
Decatur | 17-115-0013 | 8.4
Peoria | 17-143-0037 | 8.2
Rock Island | 17-161-3002 | 8.1
Springfield | 17-167-0012 | 8.2
Rockford | 17-201-0013 | 8.3
+ Data incomplete.

Illinois' air quality trends reflect what is shown across the nation: A general downward trend in ambient air concentrations, including sites that Minnesota analyzed in its submittal. During the last valid design period, only three Illinois counties reported 2008-2010 annual PM2.5 design values above the NAAQS: Cook, Madison, and Saint Clair counties. In Cook County, the 2008-2010 annual design value was 13.0 micrograms per cubic meter (µg/m³), and the annual mean values have trended downward. As shown in the table above, these areas are now meeting the NAAQS for the 2015 to 2017 design period. Therefore, EPA expects that all counties in Illinois will attain and maintain the PM2.5 NAAQS without the need for additional PM2.5 reductions in Minnesota, and for this reason, we propose to find that Minnesota will not contribute significantly to nonattainment or maintenance problems in Illinois.

Minnesota found, and our review confirmed, that despite the fact that Minnesota emissions potentially contribute to monitored PM2.5 air quality in areas in other states, all of those areas were attaining the 2012 annual PM2.5 NAAQS based on 2014-2016 data. Despite Minnesota not significantly contributing to the monitored PM2.5 air quality in Pennsylvania, our review evaluated PM2.5 air quality issues in Pennsylvania. All but two areas in Pennsylvania (Allegheny and Delaware counties) were attaining the 2012 annual PM2.5 NAAQS based on 2012-2014 data. A review of 2013-2015 design values shows that all areas except for Allegheny County have attained the NAAQS. Our review also considers 2014-2016 design values, which show only Allegheny and Lancaster counties not meeting the NAAQS. In Delaware and Lebanon counties, not only do the most recent PM2.5 monitor data show these counties are attaining the PM2.5 NAAQS, EPA's PM2.5 modeling data for 2017 and 2025 do not indicate any nonattainment or maintenance issues in these counties. There is a clear downward trend in PM2.5 values in these counties. For Lancaster County, despite having a 2014-2016 design value that exceeds the NAAQS, there is a clear downward trend in the monitored PM2.5 air quality data that supports EPA's PM2.5 modeling that shows no nonattainment or maintenance problems for this county by 2021.

The modeling information contained in EPA's 2016 memorandum shows that one monitor in Allegheny County, PA (the Liberty monitor, 420030064) may have a maintenance issue in 2017, but is projected to both attain and maintain the NAAQS by 2025. A linear interpolation of the modeled design values to 2021 shows that the monitor is likely to both attain and maintain the standard by 2021. Emissions and air quality data trends help to corroborate this interpolation.

Over the last decade, local and regional emissions reductions of primary PM2.5, sulfur dioxide (SO2), and nitrogen oxide (NOX), have led to large reductions in annual PM2.5 design values in Allegheny County, Pennsylvania. In 2007, all of Allegheny County's PM2.5 monitors exceeded the level of the 2012 annual PM2.5 NAAQS (the 2005-2007 annual average design values ranged from 12.9-19.8 μg/m³, as shown in Table 2). The 2014-2016 annual average PM2.5 design values now show that only one monitor (Liberty, at 12.8 μg/m³) exceeds the health-based annual PM2.5 NAAQS of 12.0 μg/m³.

Table 2—PM2.5 Annual Design Values in μg/m ³
Monitor | 2005-2007 | 2006-2008 | 2007-2009 | 2008-2010 | 2009-2011 | 2010-2012 | 2011-2013 | 2012-2014 | 2013-2015 | 2014-2016
Avalon |  |  |  | * 16.3 | * 14.7 | 13.4 | 11.4 | 10.6 | 10.6 | * 10.4
Lawrenceville | 15.0 | 14.0 | 13.1 | 12.2 | 11.6 | 11.1 | 10.3 | 10.0 | 9.7 | 9.5
Liberty | 19.8 | 18.3 | 17.0 | 16.0 | 15.0 | 14.8 | 13.4 | 13.0 | 12.6 | 12.8
South Fayette | 12.9 | * 11.8 | 11.7 | 11.1 | 11.0 | 10.5 | 9.6 | 9.0 | 8.8 | * 8.5
North Park | * 13.0 | * 12.3 | * 11.3 | * 10.1 | 9.7 | 9.4 | 8.8 | 8.5 | 8.5 | * 8.2
Harrison | 15.0 | 14.2 | 13.7 | 13.0 | 12.4 | * 11.7 | 10.6 | 10.0 | 9.8 | 9.8
North Braddock | 16.2 | 15.2 | 14.3 | 13.3 | 12.7 | 12.5 | * 11.7 | 11.4 | 11.2 | 11.0
Parkway East Near-Road |  |  |  |  |  |  |  |  |  | * 10.6
Clairton | 15.3 | 14.3 | 13.2 | 12.4 | * 11.5 | * 10.9 | * 9.8 | 9.5 | 9.8 | * 9.8
* Value does not contain a complete year's worth of data.

The Liberty monitor is already close to attaining the NAAQS, and expected emissions reductions in the next four years will lead to additional reductions in measured PM2.5 concentrations. There are both local and regional components to the measured PM2.5 levels in Allegheny County and the greater Pittsburgh area. Previous CSAPR modeling showed that regional emissions from upwind states, particularly SO2 and NOX emissions, contribute to PM2.5 nonattainment at the Liberty monitor. In recent years, large SO2 and NOX reductions from power plants have occurred in Pennsylvania and states upwind from the Greater Pittsburgh region. Based on existing CSAPR budgets, Pennsylvania's energy sector emissions of SO2 will have decreased 166,000 tons between 2015-2017 as a result of CSAPR implementation. This is due to both the installation of emissions controls and retirements of electric generating units (EGUs) (see the TSD for more details). Projected power plant closures and additional emissions controls in Pennsylvania and upwind states will help further reduce both direct PM2.5 and PM2.5 precursors. Regional emission reductions will continue to occur from current on-the-books Federal and state regulations such as the Federal on-road and non-road vehicle programs, and various rules for major stationary emissions sources.

In addition to regional emissions reductions and plant closures, additional local reductions of both direct PM2.5 and SO2 emissions are expected to occur and should also contribute to further declines in Allegheny County's PM2.5 monitor concentrations. For example, significant SO2 reductions have recently occurred at US Steel's integrated steel mill facilities in southern Allegheny County as part of a 1-hr SO2 NAAQS SIP.² Reductions are largely due to declining sulfur content in the Clairton Coke Work's coke oven gas (COG). Because this COG is burned at US Steel's Clairton Coke Works, Irvin Mill, and Edgar Thompson Steel Mill, these reductions in sulfur content should contribute to much lower PM2.5 precursor emissions in the immediate future. The Allegheny SO2 SIP also projects lower SO2 emissions resulting from vehicle fuel standards, reductions in general emissions due to declining population in the Greater Pittsburgh region and several shutdowns of significant sources of emissions in Allegheny County.

² http://www.achd.net/air/publichearing2017/SO2_2010_NAAQS_SIP_5-1-2017.pdf.

EPA modeling projections, the recent downward trend in local and upwind emissions reductions, the expected continued downward trend in emissions between 2017 and 2021, and the downward trend in monitored PM2.5 concentrations, all indicate that the Liberty monitor will attain and be able to maintain the 2012 annual PM2.5 NAAQS by 2021.

With respect to Florida, in the CSAPR modeling analysis for the 1997 PM2.5 NAAQS, Florida did not have any potential nonattainment or maintenance receptors identified for the 1997 or 2006 PM2.5 NAAQS. At this time, it is anticipated that this trend will continue, however, as there are ambient monitoring data gaps in the 2009-2013 data that could have been used to identify potential PM2.5 nonattainment and maintenance receptors for Miami/Dade, Gilchrist, Broward and Alachua counties in Florida, the modeling analysis of potential receptors was not complete for these counties. However, the most recent ambient data (2015-2017) for these counties has been preliminarily deemed complete and indicates design values well below the level of the 2012 annual PM2.5 NAAQS. In addition, the highest preliminary value for these observed monitors is 7.5 μg/m³ at the Miami-Dade County monitor (12-086-1016), which is well below the NAAQS. This is also consistent with historical data: complete and valid design values in the 2006-2008, 2007-2009 and/or 2008-2010 periods for these counties were all well below the 2012 annual PM2.5 NAAQS. This is also consistent with historical data: complete and valid design values in the 2006-2008 and/or 2007-2009 periods for these counties were well below the 2012 annual PM2.5 NAAQS. For these reasons, we find that none of the counties in Florida with monitoring gaps between 2009-2013 should be considered either nonattainment or maintenance receptors for the 2012 annual PM2.5 NAAQS. For these reasons, we propose to find that emissions from Minnesota will not significantly contribute to nonattainment or interfere with maintenance of the 2012 annual PM2.5 NAAQS in Florida. We find further support in the fact that EPA's source apportionment modeling predicted state impacts on downwind monitors in 2012 under the base case scenario in our original CSAPR analysis, showing little impact from Minnesota to any of Florida's counties.

The conclusions of Minnesota's analysis are consistent with EPA's expanded review of its January 23, 2017 submittal. All areas that Minnesota sources potentially contribute to attain and maintain the 2012 annual PM2.5 NAAQS, and as demonstrated in its submittal, Minnesota will not contribute to projected nonattainment or maintenance issues at any sites in 2021. Minnesota's analysis shows that through permanent and enforceable measures currently contained in its SIP, and other emissions reductions occurring in Minnesota and in other states, monitored PM2.5 air quality in all identified areas that Minnesota sources may impact will continue to improve, and that no further measures are necessary to satisfy Minnesota's responsibilities under CAA section 110(a)(2)(D)(i)(I). Therefore, EPA is proposing that prongs one and two of the interstate pollution transport element of Minnesota's infrastructure SIP are approvable.

IV. What action is EPA taking?

EPA is proposing to approve a portion of Minnesota's January 23, 2017 submittal certifying that the current Minnesota SIP is sufficient to meet the required infrastructure requirements under CAA section 110(a)(2)(D)(i)(I), specifically prongs one and two, as set forth above. EPA is requesting comments on the proposed approval.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because this rulemaking does not involve technical standards; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements.

Dated: July 30, 2018.
Cathy Stepp,
Regional Administrator, Region 5.

[FR Doc. 2018-17362 Filed 8-10-18; 8:45 am]

BILLING CODE 6560-50-P